Proclamation 8075 of October 30, 2006

National Alzheimer's Disease Awareness Month, 2006

By the President of the United States of America

A Proclamation

During National Alzheimer's Disease Awareness Month, we renew our resolve in the fight against this devastating disease, and we take time to remember the loved ones taken from us by Alzheimer's. We also recognize the patients and family members who are affected by it, and we extend our gratitude to the caretakers and researchers who are pursuing better treatments and a cure.

Age is the greatest risk factor for Alzheimer's disease, so the need for prevention, improved treatments, and a cure becomes increasingly urgent as more Americans grow older. My Administration is pursuing the tremendous possibilities that science offers to improve the lives of the millions suffering from this disease. We continue to support Alzheimer's disease research through the National Institutes of Health and the Department of Veterans Affairs. New progress is being made as more is learned about this disease.

America is blessed by our seniors, and they have earned our greatest respect. Citizens living with Alzheimer's disease deserve the best possible care. National Alzheimer's Disease Awareness Month is an opportunity for Americans to offer our support to Alzheimer's patients and those who sacrifice to help them live with dignity and comfort. The strength and compassion of these individuals reflect the good heart of the American people.

NOW, THEREFORE, I, GEORGE W. BUSH, President of the United States of America, by virtue of the authority vested in me by the Constitution and laws of the United States, do hereby proclaim November 2006 as National Alzheimer's Disease Awareness Month. I call upon the people of the United States to observe this month with appropriate programs and activities.

IN WITNESS WHEREOF, I have hereunto set my hand this thirtieth day of October, in the year of our Lord two thousand six, and of the Independence of the United States of America the two hundred and thirty-first.

[FR Doc. 06-9060

Filed 11-1-06; 8:45 am]

Billing code 3195-01-P